DEPARTMENT OF ENERGY

Notice of Availability of the Draft Environmental Assessment Addendum for Disposition of Additional Waste at the Paducah Gaseous Diffusion Plant

AGENCY: Department of Energy.

ACTION: Notice of availability.

SUMMARY: The Department of Energy (DOE), announces the availability of the Draft Environmental Assessment (EA) Addendum for Disposition of Additional Waste at the Paducah Site (DOE/EA-1339A) for public review and comment. The Draft EA Addendum has been prepared in accordance with the requirements of the National Environmental Policy Act of 1969 as amended (NEPA) (42 U.S.C. 4321 et seq.); Council on Environmental Quality regulations implementing NEPA, 40 CFR parts 1500-1508; and DOE NEPA Implementing Procedures, 10 CFR part 1021.

The Draft EA Addendum evaluates the potential environmental impacts associated with transportation of waste to disposal facilities at various locations throughout the United States. The Draft EA Addendum also evaluates the potential environmental impacts associated with the no action alternative and enhanced on-site storage alternative.

The public is invited to comment on the Draft EA Addendum during the public comment period. All comments received will be considered in preparation of the final EA Addendum. Late comments will be considered to the extent practicable.

DATES: The review period for the Draft EA Addendum begins May 4, 2003, and ends June 4 or 14 days from the date of this notice, whichever is later. Comments postmarked after that date will be considered to the extent practicable. One public meeting to discuss issues and receive oral comments on the Draft EA Addendum will be held on May 13, 2003, at 6 p.m. C.D.T. at the DOE Environmental Information Center, Barkley Centre, 115 Memorial Drive, in Paducah, Kentucky. The public meeting will provide the public with an opportunity to present comments, ask questions, and discuss concerns with DOE officials regarding the Draft EA Addendum. Specific information regarding the public meeting can be obtained by calling 1-270-441-5204, writing to the address above, or electronically.

ADDRESSES: Comments on the Draft EA Addendum may be submitted by mail: U.S. Department of Energy, Paducah Site Office, Attn: Mr. Gary Bodenstein, PO Box 1410, Paducah, KY 42001, by fax (1-270-441-6801), or electronically (BodensteinGW@oro.doe.gov).

Copies of the Draft EA Addendum may also be obtained by contacting Mr. Gary Bodenstein by any of the means described above. The Draft EA Addendum is available for review at the U.S. Department of Energy Environmental Information Center, Barkley Center, 115 Memorial Drive, in Paducah, Kentucky. The Draft EA Addendum is also available for review at the U.S. Department of Energy Public Reading Room at 230 Warehouse Road, Oak Ridge, TN 37830.

FOR FURTHER INFORMATION CONTACT: For general information on the DOE NEPA process, please contact: Ms. Carol M. Borgstrom, Director, Office of NEPA Policy and Compliance (EH-42), U.S. Department of Energy, 1000 Independence Avenue, SW., Washington, DC 20585, telephone 202-586-4600, or leave a message at 1-800-472-2756.

SUPPLEMENTARY INFORMATION: The EA Addendum is tiered from the recently completed Environmental Assessment for Waste Disposition Activities at the Paducah Site, Paducah Kentucky, DOE/EA-1339. The Draft EA Addendum evaluates DOE's proposed disposition activities for legacy and future-generated low-level waste from the Paducah Site in Paducah, Kentucky. The EA Addendum is needed because DOE has identified 17,600 m³ of additional low-level waste currently stored at the Paducah Site that needs to be dispositioned. The additional waste would be transported to various disposal locations throughout the United States by truck, rail, or inter-modal shipment. Off-site treatment and disposal locations for waste disposition include facilities in Nevada, Utah, Texas, Washington, Idaho, New Mexico, and Tennessee. The Draft EA Addendum also evaluates the no action alternative. Under this alternative, DOE would not perform disposition activities except for those needed for standard waste management and maintenance. No disposal of the existing and projected quantities of waste would occur. DOE would continue to store such waste. Ongoing non-Comprehensive Environmental Response, Compensation, and Liability Act waste management operations would continue. The Draft EA Addendum also evaluates the alternative of enhanced on-site storage of the waste.

David R. Allen,
NEPA Compliance Officer.

[FR Doc. 03-10642 Filed 4-29-03; 8:45 am]

BILLING CODE 6450-01-M